DEPARTMENT OF DEFENSE

Department of the Navy

Notice of Intent To Grant Exclusive Patent License; Pyrotech International, Inc.

AGENCY: Department of the Navy, DOD.

ACTION: Notice.

SUMMARY: The invention listed below is assigned to the United States Government as represented by the Secretary of the Navy. The Department of the Navy hereby gives notice of its intent to grant to Pyrotech International, Inc. a revocable, nonassignable, exclusive license to practice in the United States, the Government-owned invention described below:

Patent application 10/662,169 (Navy Case 84,321), filed September 11, 2003, entitled “Fast Response Fluid Control Valve/Nozzle.”

DATES: Anyone wishing to object to the grant of this license has fifteen days from the date of this notice to file written objections along with supporting evidence, if any.

ADDRESSES: Written objections are to be filed with Naval Surface Warfare Center, Crane Div, Code OCF, Bldg 64, 300 Highway 361, Crane, IN 47522-5001.

FOR FURTHER INFORMATION CONTACT: Mr. Darrell Boggess, Naval Surface Warfare Center, Crane Div, Code OCF, Bldg 2, 300 Highway 361, Crane, IN 47522-5001, telephone (812) 854-1130.

(Authority: 35 U.S.C. 207, 37 CFR Part 404.)

Dated: April 2, 2004.
S.A. Hughes,
Lieutenant Commander, Judge Advocate General's Corps, U.S. Navy, Federal Register Liaison Officer.

[FR Doc. 04-8060 Filed 4-8-04; 8:45 am]

BILLING CODE 3810-FF-P